DEPARTMENT OF HEALTH AND HUMAN SERVICES

Centers for Disease Control and Prevention

Development of Influenza Surveillance Network in Vietnam; Notice of Intent To Fund Single Eligibility Award

A. Purpose

The Centers for Disease Control and Prevention (CDC) announces the intent to fund fiscal year (FY) 2005 funds for a cooperative agreement program to provide support and assistance to the government of Vietnam, specifically the National Institute of Hygiene and Epidemiology for the development and improvement of the influenza surveillance network in Vietnam. This network will focus on the systematic collection of virological and epidemiological information for influenza. The Catalog of Federal Domestic Assistance number for this program is 93.283.

B. Eligible Applicant

Assistance will be provided only to the Vietnam National Institute of Hygiene and Epidemiology through their Ministry of Health. Vietnam is being targeted for this cooperative agreement due to the recent outbreaks of highly pathogenic H5N1 avian influenza cases in humans and animals. The newly arising cases in humans are cause for great concern due to the potential of an influenza pandemic capable of causing millions of deaths. Since mid-December 2004, the Ministry of Health in Vietnam has confirmed 24 cases of human infection with H5N1 avian influenza. Of the 24 confirmed cases, 13 have resulted in fatalities. For the entire year of 2004, Vietnam had 28 human cases of H5N1 and 20 fatalities. Additionally, it appears that there are a growing number of possible family clusters suggesting the ability of the virus to spread through human to human contact. In response to these recent events in Vietnam, the Department of Health and Human Services requested that the Centers for Disease Control and Prevention create a cooperative agreement with Vietnam to enhance surveillance to address the current influenza situation as soon as possible. National Institute of Hygiene and Epidemiology (NIHE) has been chosen to conduct the surveillance for avian influenza because it serves as the National Influenza Center designated by the World Health Organization (WHO) and the Ministry of Health. As such, information collected by NIHE is reported directly into WHO's Global Influenza Surveillance System where it benefits countries globally.

C. Funding

Approximately $500,000 is available in FY 2005 to fund this award. It is expected that the award will begin on or before April 29, 2005 and will be made for a 12-month budget period within a project period of up to 5 years. Funding estimates may change.

D. Where To Obtain Additional Information

For general comments or questions about this announcement, contact: Technical Information Management, CDC Procurement and Grants Office, 2920 Brandywine Road, Atlanta, GA 30341-4146, Telephone: 770-488-2700.

For technical questions about this program, contact: Ann Moen, Project Officer, CDC, National Center for Infectious Diseases, Mailstop G-16, 1600 Clifton Road, NE., Atlanta, GA 30333, Telephone: 404-639-4652, E-mail: AMoen@cdc.gov.

Dated: March 24, 2005.
William P. Nichols,
Director, Procurement and Grants Office, Centers for Disease Control and Prevention.

[FR Doc. 05-6244 Filed 3-29-05; 8:45 am]

BILLING CODE 4163-18-P